DEPARTMENT OF THE INTERIOR

Bureau of Land Management

[WO-310-1310-PP-EPAI]

Amendment to the List of Affected States Under the Energy Policy Act of 1992

AGENCY: Bureau of Land Management, Interior.

ACTION: Notice of removal of Kentucky from the List of Affected States.

SUMMARY: The Energy Policy Act of 1992 (the Act) (Pub. L. 102-486) requires that the Secretary of the Interior administer a Federal program to regulate coalbed methane development in states where coalbed methane development has been impeded by disputes or uncertainty over ownership of coalbed methane gas. As required by the Act, the Department of the Interior, with the participation of the Department of Energy, developed a List of Affected States to which this program would apply (58 FR 21589, April 22, 1993).

Section 1339 of the Act provides three mechanisms by which a state may be removed from the List of Affected States. The List of Affected States is currently comprised of the States of Kentucky and Tennessee.

Section 387 of the Energy Policy Act of 2005 (Pub. L. 109-58) provided a three-year period for state action to seek removal from the List of Affected States, including action taken prior to enactment of that Act (August 8, 2005). In 2004, the Kentucky General Assembly passed and the Governor signed a coalbed methane law, codified as Chapter 349 of Kentucky Revised Statutes. The law created a state authority and procedures to facilitate coalbed methane development. It further explicitly sought, in subsection 349.005(4)(e), deletion of Kentucky from the List of Affected States.

We find that this Kentucky statute fulfills two of the Act's Section 1339 removal standards: (a) A law requesting removal and (b) a law permitting and encouraging the development of coalbed methane. Therefore, the State of Kentucky is officially removed from the List of Affected States.

FOR FURTHER INFORMATION CONTACT: Timothy R. Spisak, Group Manager, Fluid Minerals Group, Bureau of Land Management, 1849 C Street, NW., Mail Stop 501 L St., Washington, DC 20240 or telephone (202) 452-5061; or Charles W. Byrer, U.S. Department of Energy, 3610 Collins Ferry Road, Morgantown, West Virginia 26507, or telephone (304) 285-4547.

Dated: April 7, 2006.
Thomas Lonnie,
Assistant Director, Minerals, Realty, and Resource Protection.

[FR Doc. 06-4550 Filed 5-15-06; 8:45 am]

BILLING CODE 4310-84-M